DEPARTMENT OF HEALTH AND HUMAN SERVICES

Centers for Disease Control and Prevention

Fees for Sanitation Inspections of Cruise Ships [Correction]

AGENCY: Centers for Disease Control and Prevention (CDC), Department of Health and Human Services (HHS).

ACTION: Notice Correction.

SUMMARY: Correction: This notice was published in the Federal Register on October 4, 2007, Volume 72, Number 192, page 56768. The contact e-mail address should read as follows: Jfa0@cdc.gov

FOR FURTHER INFORMATION CONTACT: Jaret Ames, Chief, Vessel Sanitation Program, National Center for Environmental Health, Centers for Disease Control and Prevention (CDC), 4770 Buford Highway, NE., Mailstop F-23, Atlanta, Georgia 30341-3724, telephone (770) 488-3139, E-mail: jfa0@cdc.gov.

Dated: October 24, 2007.
James D. Seligman,
Chief Information Officer, Centers for Disease Control and Prevention (CDC).

[FR Doc. E7-21398 Filed 10-30-07; 8:45 am]

BILLING CODE 4163-18-P